DEPARTMENT OF HEALTH AND HUMAN SERVICES

Administration for Children and Families

Proposed Information Collection Activity; “State SNAP Agency NDNH Matching Program Performance Report” (OMB No.: 0970-0464)

AGENCY: Office of Child Support Enforcement, Administration for Children and Families, HHS.

ACTION: Request for public comment.

SUMMARY: The Office of Child Support Enforcement (OCSE), Administration for Children and Families (ACF) is requesting the federal Office of Management and Budget (OMB) approve the “State SNAP Agency NDNH Matching Program Performance Report,” with minor revisions, for an additional three years. State agencies administering their Supplemental Nutrition Assistance Program (SNAP) provide the annual performance report to OCSE in accordance with the computer matching agreement between state SNAP agencies and OCSE. The current OMB approval expires on February 28, 2022.

DATES: Comments due within 60 days of publication. In compliance with the requirements of the Paperwork Reduction Act of 1995, ACF is soliciting public comment on the specific aspects of the information collection described above.

ADDRESSES: To submit comments and obtain copies of the proposed collection of information, email infocollection@acf.hhs.gov. Alternatively, copies are obtainable by writing to the Administration for Children and Families, Office of Planning, Research, and Evaluation (OPRE), 330 C Street SW, Washington, DC 20201, Attn: ACF Reports Clearance Officer. Identify all requests, emailed or written, by the title of the information collection.

SUPPLEMENTARY INFORMATION: Description: State agencies administering SNAP are mandated to participate in a computer matching program with the federal OCSE. The matching program compares SNAP applicant and recipient information with employment and wage information maintained in the National Directory of New Hires (NDNH). The outcomes of the compared information help state SNAP agencies with verifying and determining an individual's benefit eligibility. To receive NDNH information, state agencies enter into a computer matching agreement and adhere to its terms and conditions, including providing OCSE with annual performance outcomes that are attributable to the use of NDNH information.

To fulfill OMB requirements, OCSE periodically reports performance measurements demonstrating how the use of information in the NDNH supports OCSE's strategic mission, goals, and objectives. OCSE will provide the annual SNAP performance outcomes to OMB.

Respondents: State SNAP Agencies.

Annual Burden Estimates
Instrument | Total number of respondents | Number of responses per respondent | Average burden hours per response | Total burden hours
SNAP Agency Performance Reporting Tool and Instructions | 53 | 1 | 0.83 | 43.99

Estimated Total Annual Burden Hours: 43.99.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. OCSE will consider comments and suggestions submitted within 60 days of this publication.

Authority: 42 U.S.C. 653(j)(10); 5 U.S.C. 552a; and Pub. L. 111-352.

Mary B. Jones,
ACF/OPRE Certifying Officer.

[FR Doc. 2021-12057 Filed 6-8-21; 8:45 am]

BILLING CODE 4184-41-P